CIVIL RIGHTS COMMISSION

Sunshine Act Meeting Notice

AGENCY: United States Commission on Civil Rights.

ACTION: Notice of Commission Business Meeting.

SUMMARY: Notice is hereby given, pursuant to the provisions of the rules and regulations of the U.S. Commission on Civil Rights, and the Federal Advisory Committee Act (FACA), that a Business Meeting of the U.S. Commission on Civil Rights will be convened at 10 a.m. on Friday, September 9, 2016.

DATES: Friday, September 9, 2016, at 10 a.m. EST.

ADDRESSES: National Place Building, 1331 Pennsylvania Ave. NW., 11th Floor, Suite 1150, Washington, DC 20425 (Entrance on F Street NW.).

FOR FURTHER INFORMATION CONTACT: Brian Walch, Communications and Public Engagement Director. Telephone: (202) 376-8371; TTY: (202) 376-8116; Email: publicaffairs@usccr.gov.

SUPPLEMENTARY INFORMATION: This business meeting is open to the public.

Hearing-impaired persons who will attend the briefing and require the services of a sign language interpreter should contact Pamela Dunston at (202) 376-8105 or at signlanguage@usccr.gov at least five business days before the scheduled date of the meeting.

Meeting Agenda

I. Approval of Agenda

II. Business Meeting

A. Program Planning

• Discussion and Vote on Press Release on National Voting Rights Act Report

• Discussion and Vote on Press Release on 2016 Statutory Enforcement Report

• Discussion and Vote on Commission Statement on Hispanic Heritage Month

• Update on Preliminary 60th Anniversary Planning by Brian Walch

B. State Advisory Committees.

• Missouri SAC Chair, S. David Mitchell presentation of the Committee Report on Police—Community Relations in Missouri

• State Advisory Committee Appointments

• North Carolina

C. Management and Operations.

• Discussion on October Meeting with Special Guest Sylvia Mendez to discuss her experiences as the plaintiff in Mendez v. Westminster.

• Completion of Web site Migration.

• Staff Director's Report.

III. Adjourn Meeting

Dated: September 2, 2016.
Brian Walch,
Director, Communications and Public Engagement.

[FR Doc. 2016-21670 Filed 9-2-16; 4:15 pm]

BILLING CODE 6335-01-P